DEPARTMENT OF COMMERCE

National Oceanic and Atmospheric Administration

RIN 0648-XA253

Incidental Taking of Marine Mammals; Taking of Marine Mammals Incidental to the Explosive Removal of Offshore Structures in the Gulf of Mexico

AGENCY: National Marine Fisheries Service (NMFS), National Oceanic and Atmospheric Administration (NOAA), Commerce.

ACTION: Notice; issuance of letters of authorization.

SUMMARY: In accordance with the Marine Mammal Protection Act (MMPA) and implementing regulations, notification is hereby given that NMFS has issued three one-year Letters of Authorization (LOA) to take marine mammals incidental to the explosive removal of offshore oil and gas structures (EROS) in the Gulf of Mexico.

DATES: These authorizations are effective from February 27, 2011, through February 26, 2012, and May 15, 2011, through May 14, 2012.

ADDRESSES: The application and LOAs are available for review by writing to P. Michael Payne, Chief, Permits, Conservation, and Education Division, Office of Protected Resources, National Marine Fisheries Service, 1315 East-West Highway, Silver Spring, MD 20910-3235 or by telephoning the contact listed here (see FOR FURTHER INFORMATION CONTACT), or online at: http://www.nmfs.noaa.gov/pr/permits/incidental.htm. Documents cited in this notice may be viewed, by appointment, during regular business hours, at the aforementioned address.

FOR FURTHER INFORMATION CONTACT: Howard Goldstein or Jolie Harrison, Office of Protected Resources, NMFS, 301-713-2289.

SUPPLEMENTARY INFORMATION: Section 101(a)(5)(A) of the MMPA (16 U.S.C. 1361 et seq.) directs the Secretary of Commerce (who has delegated the authority to NMFS) to allow, upon request, the incidental, but not intentional, taking of small numbers of marine mammals by United States citizens who engage in a specified activity (other than commercial fishing) within a specified geographical region, if certain findings are made and regulations are issued. Under the MMPA, the term “take” means to harass, hunt, capture, or kill or to attempt to harass, hunt, capture, or kill any marine mammal.

Authorization for incidental taking, in the form of annual LOAs, may be granted by NMFS for periods up to five years if NMFS finds, after notice and opportunity for public comment, that the taking will have a negligible impact on the species or stock(s) of marine mammals, and will not have an unmitigable adverse impact on the availability of the species or stock(s) for subsistence uses (where relevant). In addition, NMFS must prescribe regulations that include permissible methods of taking and other means of effecting the least practicable adverse impact on the species and its habitat (i.e., mitigation), and on the availability of the species for subsistence uses, paying particular attention to rookeries, mating rounds, and areas of similar significance. The regulations also must include requirements pertaining to the monitoring and reporting of such taking.

Regulations governing the taking of marine mammals incidental to EROS were published on June 19, 2008 (73 FR 34875), and remain in effect through July 19, 2013. For detailed information on this action, please refer to that Federal Register notice. The species that applicants may take in small numbers under LOAs during EROS activities are bottlenose dolphins (Tursiops truncatus), Atlantic spotted dolphins (Stenella frontalis), pantropical spotted dolphins (Stenella attenuata), Clymene dolphins (Stenella clymene), striped dolphins (Stenella coeruleoalba), spinner dolphins (Stenella longirostris), rough-toothed dolphins (Steno bredanensis), Risso's dolphins (Grampus griseus), melon-headed whales (Peponocephala electra), short-finned pilot whales (Globicephala macrorhynchus), and sperm whales (Physeter macrocephalus). NMFS received requests for LOA renewals from Energy Resource Technology GOM, Inc. (ERT), Demex International, Inc. (Demex), and Noble Energy, Inc. (Noble Energy), for activities covered by the EROS regulations.

Reporting

NMFS regulations require timely receipt of reports for activities conducted under the previously issued LOA, and a determination that the required mitigation, monitoring, and reporting were undertaken. NMFS Galveston Laboratory's Platform Removal Observer Program (PROP) has provided reports for ERT and Noble Energy's removal of offshore structures during 2010. Demex has not used their LOA for any operations to date. NMFS PROP observers and non-NMFS observers reported the following during ERT and Noble Energy's EROS operations in 2010:

Company | Structure | Dates | Marine mammals sighted (individuals) | Biological impacts observed to marine mammals
ERT | Vermillion Area, Block 199, Platform JA | May 13 to 17, 2010 | Bottlenose dolphins (22), Spotted dolphins (15) | None.
ERT | South Marsh Island Area, Block 24, Platform A | May 11 to 16, 2010 | None | None.
ERT | West Cameron Area, Block 331, Platform A | May 14 to 20, 2010 | Bottlenose dolphins (8), Unidentified dolphins (13) | None.
ERT | West Cameron Area, Block 458, Platform D | May 16 to 21 and August 22 to 24, 2010 | Bottlenose dolphins (23) | A bottlenose dolphin was killed at this location via entanglement in a diver's guide line.
ERT | South Marsh Island Area, Block 113, Platform B | May 17 to 23, 2010 | Bottlenose dolphins (14) | None.
ERT | West Cameron Area, Block 328, Platform A | May 21 to 24, 2010 | Bottlenose dolphins (1) | None.
ERT | Eugene Island Area, Block 128A, Platform JC | May 24 to June 4, 2010 | Bottlenose dolphins (77) | None.
ERT | East Cameron Area, Block 282, Platform C | May 22 to 23, May 25 to 29, June 12 to 17, and August 25, 2010 | Spotted dolphins (20) | None.
ERT | West Cameron Area, Block 405, Platform A | May 25 to June 3, 2010 | None | None.
ERT | East Cameron Area, Block 298, Platform E | May 29 to June 1, and June 18 to 20, 2010 | None | None.
ERT | High Island Area, Block A544, Platform A | June 15 to 17, and August 26 to 27, 2010 | Bottlenose dolphins (14), Spotted dolphins (8) | None.
ERT | East Cameron Area, Block 364, Platform A | August 2 to 6, and August 30 to September 2, 2010 | None | None.
ERT | East Cameron Area, Block 346, Subsea Well #6 | August 28 to 29, 2010 | None | None.
Noble Energy | Brazos Area, Block A51, Platform F | June 20 to 24, 2010 | Bottlenose dolphins (30), Spotted dolphins (11) | None.
Noble Energy | Eugene Island Area, Block 308, Platform A | June 21 to 23, July 5 to 6, and July 10 to 11, 2010 | None | None.
Noble Energy | Main Pass Area, Block 305, Platform B | August 16 to 21, 2010 | Unidentified dolphins (1) | None.

On May 20, 2010, NMFS received a phone call from a PROP observer regarding a single bottlenose dolphin that was injured and most likely killed by entanglement in a diver's guide line during platform removal operations. ERT was conducting these EROS operations in the GOM accompanied by a LOA, issued under the MMPA. No serious injury or mortality was anticipated or authorized in the EROS regulations. The PROP observer reported the incident as required in EROS regulations. The mortality of the individual bottlenose dolphin was unrelated to the use of explosives, and determined as unforeseen by NMFS. During the many years in which NMFS PROP observers have monitored EROS operations, this is the first reported observed lethal “take” by entanglement of a dolphin in a diver guide line or any other kind of line.

There are two primary methodologies used in the GOM for severing decommissioned targets; non-explosive and explosive severance. The EROS regulations analyzed both methodologies and determined that non-explosive severance activities have little or no impact on the marine environment and would not result in an incidental take of marine mammals, though they are relatively time-consuming and potentially harmful to human health and safety (primarily for divers). Due to the unlikelihood of take of marine mammals incidental to entanglement during EROS activities, the then Minerals Management Service (now the Bureau of Ocean Energy Management, Regulation, and Enforcement) did not request (nor did NMFS contemplate) MMPA authorization for take of marine mammals from entanglement in the EROS regulations.

Due to the low predictability of an incident resulting in the mortality of a marine mammal from entanglement in a diver's guide line, NMFS's regulations for EROS do not address this aspect of the activity; nor is NMFS currently aware of any specific additional monitoring and mitigation measures to further reduce the likelihood of such an event, other than the recommendation to remove any unattended lines from the water column and/or keep guide lines taut (i.e., no slack) during EROS operations. NMFS may further explore monitoring and mitigation measures in the next rulemaking for EROS activities. In the meantime, NMFS will continue to monitor EROS activities and may recommend additional monitoring and mitigation measures to future LOA holders.

Of note, ERT was in compliance with the mitigation and monitoring measures required by the regulations and LOA and provided the specific information outlined in the reporting section of the rule, as well as additional information. The unexpected dolphin mortality does not change the negligible impact and small numbers determinations in the regulations.

Authorization

Pursuant to these regulations, NMFS has issued an LOA to Energy Resource Technology GOM, Inc., Demex International, Inc., and Noble Energy, Inc. Issuance of the LOAs is based on a finding made in the preamble to the final rule that the total taking by these activities (with monitoring, mitigation, and reporting measures) will result in no more than a negligible impact on the affected species or stock(s) of marine mammals and will not have an unmitigable adverse impact on subsistence uses. NMFS also finds that the applicant will meet the requirements contained in the implementing regulations and LOA, including monitoring, mitigation, and reporting requirements.

Dated: February 23, 2011.
James H. Lecky,
Director, Office of Protected Resources, National Marine Fisheries Service.

[FR Doc. 2011-4972 Filed 3-3-11; 8:45 am]

BILLING CODE 3510-22-P